DEPARTMENT OF TRANSPORTATION

National Highway Traffic Safety Administration

[Docket No. NHTSA 2000-7744; Notice 1]

General Motors Corporation, Receipt of Application for Decision of Inconsequential Noncompliance

General Motors Corporation (GM) has determined that certain headlamps on 1999 Buick Century and Buick Regal models may not meet the photometric requirements of Federal Motor Vehicle Safety Standard (FMVSS) No. 108, “Lamps, Reflective Devices, and Associated Equipment.” GM's testing indicates that some photometric locations above the horizon, which are intended to provide light for reading overhead signs, are below the minimum candela requirements specified in FMVSS No. 108.

Pursuant to 49 U.S.C. 30118(d) and 30120(h), GM has petitioned for a determination that this condition is inconsequential to motor vehicle safety and has filed an appropriate report pursuant to 49 CFR Part 573, “Defect and Noncompliance Reports.”

This notice of receipt of this application is published under 49 U.S.C. 30118 and 30120 and does not represent any agency decision or other exercise of judgment concerning the merits of the application.

To evaluate the condition, 10 pairs of lamps were randomly collected from production and photometrically tested. Additionally, GM tested the same 10 pairs of lamps using accurate rated bulbs. The test results indicate that 5 test points (production bulbs) and 3 test points (accurate rated bulbs), respectively, failed to meet the minimum candela requirements.

The tests results indicate that the amount of light below the minimum required was generally less than 10 percent, with the maximum variation being 24.4 percent at one point with a production bulb. Transport Canada conducted tests on the same headlamps and all the test points in question met the requirements, indicating the non-complying results were related to manufacturing variations and were present in only a portion of the lamps.

The petitioner believes that this noncompliance in inconsequential to motor vehicle safety for the following reasons:

The test points at issue are all above the horizon and are intended to measure illumination of overhead signs. They do not represent areas of the beam that illuminate the road surface, and the headlamps still fulfill applicable Federal Motor Vehicle Safety Standard 108 requirements regarding road illumination.

For years the rule of thumb has been that a 25 percent difference in light intensity is not significant to most people for certain lighting conditions.

GM has not received any complaints from owners of the subject vehicles about their ability to see overhead signs.

GM is not aware of any accidents, injuries, owner complaints or field reports related to this condition for these vehicles.

Interested persons are invited to submit written data, views, and arguments on the application described above. Comments should refer to the docket number and be submitted to: U.S. Department of Transportation, Docket Management, Room PL-401, 400 Seventh Street, SW., Washington, DC, 20590. It is requested that two copies be submitted.

All comments received before the close of business on the closing date indicated below will be considered. The application and supporting materials, and all comments received after the closing date, will also be filed and will be considered to the extent possible. When the application is granted or denied, the notice will be published in the Federal Register pursuant to the authority indicated below. Comment closing date: September 13, 2000.

(49 U.S.C. 301118, 301120; delegations of authority at 49 CFR 1.50 and 501.8)
Issued on: August 8, 2000.
Stephen R. Kratzke,
Associate Administrator for Safety Performance Standards.

[FR Doc. 00-20601 Filed 8-11-00; 8:45 am]

BILLING CODE 4910-59-P